DEPARTMENT OF TRANSPORTATION

Federal Aviation Administration

14 CFR Part 39

[Docket No. FAA-2005-20474; Directorate Identifier 2004-NM-221-AD; Amendment 39-14178; AD 2005-14-01]

RIN 2120-AA64

Airworthiness Directives; Airbus Model A300 B2-203 and B4-203 Airplanes; Model A310-200 and -300 Series Airplanes; and Model A300 B4-600, B4-600R, and F4-600R Series Airplanes, and Model A300 C4-605R Variant F Airplanes (Collectively Called A300-600 Series Airplanes)

AGENCY: Federal Aviation Administration (FAA), Department of Transportation (DOT).

ACTION: Final rule.

SUMMARY: The FAA is adopting a new airworthiness directive (AD) for certain Airbus transport category airplanes. This AD requires an inspection to determine if suspect part numbers (P/Ns) and serial numbers of certain Thales Avionics equipment are installed, and replacement of any suspect part with a modified part having a new P/N. This AD is prompted by reports of loss of the digital distance radio magnetic indicator and subsequent loss of both very high frequency omnidirectional range indicators, both distance measuring equipment, and one centralized maintenance computer. We are issuing this AD to prevent loss of navigation indications on the primary flight display requiring continuation of the flight on emergency instruments, which could lead to reduced ability to control the airplane in adverse conditions.

DATES: This AD becomes effective August 10, 2005.

The incorporation by reference of certain publications listed in the AD is approved by the Director of the Federal Register as of August 10, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20474; the directorate identifier for this docket is 2004-NM-221-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The FAA proposed to amend 14 CFR part 39 with an AD for certain Airbus Model A300 B2-203 and B4-203 airplanes; Model A310-200 and -300 series airplanes; and Model A300 B4-600, B4-600R, and F4-600R series airplanes, and Model C4-605R Variant F airplanes (collectively called A300-600 series airplanes). That action, published in the Federal Register on March 3, 2005 (70 FR 10339), proposed to require an inspection to determine if suspect part numbers (P/Ns) and serial numbers of certain Thales Avionics equipment are installed, and replacement of any suspect part with a modified part having a new P/N.

Comments

We provided the public the opportunity to participate in the development of this AD. We have considered the comment that has been submitted on the proposed AD.

Request To Expand Applicability

One commenter, the airplane manufacturer, notes that French airworthiness directive F-2004-037, issued March 17, 2004, which also addresses the subject of the proposed AD, applies to Airbus Model A300 B4-220 airplanes, as well as the other airplane models identified in the proposed AD. The commenter points out that the proposed AD does not mention Airbus Model A300 B4-220 airplanes.

We agree with the commenter's statements, but find that we do not need to change the AD in this regard. Airbus Model A300 B4-220 airplanes are not listed on the U.S. type certificate data sheet; thus, we do not need to issue an AD against those airplanes.

Explanation of Change to Applicability

We have revised the applicability of this AD to identify model designations as published in the most recent type certificate data sheet for the affected models.

Conclusion

We have carefully reviewed the available data, including the comment that was submitted, and determined that air safety and the public interest require adopting the AD with the change described previously. We have determined that this change will neither increase the economic burden on any operator nor increase the scope of the AD.

Costs of Compliance

This AD will affect about 158 Model A310-200 and -300 series airplanes, and Mode A300-600 series airplanes of U.S. registry. The required inspection will take about 1 work hour per airplane, at an average labor rate of $65 per work hour. Based on these figures, the estimated cost of this AD for these U.S. operators is $10,270, or $65 per airplane.

Currently, there are no affected Model A300 B2-203 and B4-203 airplanes on the U.S. Register. However, if an affected airplane is imported and placed on the U.S. Register in the future, the required actions will take about 1 work hour, at an average labor rate of $65 per work hour. Based on these figures, we estimate the cost of this AD for Model A300 B2-203 and B4-203 series airplanes to be $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-14-01 Airbus: Amendment 39-14178. Docket No. FAA-2005-20474; Directorate Identifier 2004-NM-221-AD.

Effective Date

(a) This AD becomes effective August 10, 2005.

Affected ADs

(b) None.

Applicability

(c) This AD applies to the airplanes in paragraphs (c)(1) through (c)(3) of this AD, certificated in any category, equipped with at least one of the Thales Avionics equipment part numbers listed in Table 1 of this AD.

(1) Airbus Model A300 B4-600, B4-600R, and F4-600R series airplanes, and Model C4-605R Variant F airplanes (collectively called A300-600 series airplanes);

(2) Airbus Model A310-203, -204, -221, -222, -304, -322, -324, and -325 airplanes; and

(3) Airbus Model A300 B2-203 and B4-203 airplanes with a forward facing crew cockpit configuration.

Table 1.—Affected Thales Avionics Equipment
Equipment | Part No. (P\N)
Altimeter indicator | 65205-211-2, -3, or -4; 65205-230-1, -2, or -3; or 65205-235-1.
Radio magnetic indicator (RMI)/automatic direction finder (ADF) indicator | 63540-040-1 or 63540-031-2.
RMI/very high frequency omnidirectional range (VOR) indicators/distance measuring equipment (DME) | 63540-170-2 or 63540-156-3.
Vertical speed indicator (VSI) | 65285-220-2 or 65285-230-1.

Unsafe Condition

(d) This AD was prompted by reports of loss of the digital distance radio magnetic indicator and subsequent loss of both VORs, both DMEs, and one centralized maintenance computer. We are issuing this AD to prevent loss of navigation indications on the primary flight display requiring continuation of the flight on emergency instruments, which could lead to reduced ability to control the airplane in adverse conditions.

Compliance

(e) You are responsible for having the actions required by this AD performed within the compliance times specified, unless the actions have already been done.

Service Bulletins

(f) The term “Airbus service bulletin,” as used in this AD, means the Accomplishment Instructions of the applicable service bulletin in Table 2 of this AD.

Table 2.—Airbus Service Bulletins
For model— | Airbus service bulletin—
(1) A300-600 series airplanes | A300-34A6145, Revision 01, dated October 17, 2003.
(2) A310-203, -204, -221, -222, -304, -322, -324, and -325 airplanes | A310-34A2178, Revision 01, dated October 17, 2003.
(3) A300 B2-203 and B4-203 airplanes | A300-34A0173, Revision 01, dated December 18, 2003.

(g) Each Airbus service bulletin in Table 2 of this AD refers to the Thales Avionics service bulletins in Table 3 of this AD as additional sources of service information for accomplishing the inspection and replacement if necessary.

Table 3.—Thales Avionics Service Bulletins
Thales Avionics service bulletin— | Revision— | Dated—
(1) 354-34-051 | 03 | October 13, 2003.
(2) 354-34-053 | 02 | October 10, 2003.
(3) 520-34-014 | 04 | April 22, 2004.
(4) 520-34-015 | 04 | July 1, 2004.
(5) 520-34-016 | 03 | November 20, 2003.
(6) 520-34-017 | 03 | July 1, 2004.
(7) 528-34-006 | 03 | June 29, 2004.
(8) 528-34-007 | 02 | October 10, 2003.

Inspection and Replacement

(h) Within 6 months after the effective date of this AD, do an inspection to determine if the suspect P/Ns and serial number (S/N) of the Thales Avionics equipment is installed, in accordance with the Airbus service bulletin. If any suspect P/N and S/N is found, within 6 months after the effective date of this AD, replace the suspect part with a modified part having a new P/N, in accordance with the Airbus service bulletin.

Parts Installation

(i) As of the effective date of this AD, no person may install any Thales Avionics equipment specified in Table 1 of this AD on any airplane.

Reporting Requirement

(j) Within 6 months after the effective date of this AD, submit a report of all P/Ns and S/N of overhauled equipment found during the inspection required by paragraph (h) of this AD to Airbus, 1 Rond Point Maurice Bellonte, 31707 Blagnac Cedex, France; fax 011-33-561934251. Information collection requirements contained in this AD have been approved by the Office of Management and Budget (OMB) under the provisions of the Paperwork Reduction Act of 1980 (44 U.S.C. 3501 et seq.) and have been assigned OMB Control Number 2120-0056.

Alternative Methods of Compliance (AMOCs)

(k) The Manager, International Branch, ANM-116, Transport Airplane Directorate, FAA, has the authority to approve AMOCs for this AD, if requested in accordance with the procedures found in 14 CFR 39.19.

Related Information

(l) French airworthiness directive F-2004-037, issued March 17, 2004, also addresses the subject of this AD.

Material Incorporated by Reference

(m) You must use the service information listed in Table 4 to perform the actions that are required by this AD, unless the AD specifies otherwise. The Director of the Federal Register approves the incorporation by reference of these documents in accordance with 5 U.S.C. 552(a) and 1 CFR part 51. To get copies of the service information, contact Airbus, 1 Rond Point Maurice Bellonte, 31707 Blagnac Cedex, France. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Table 4.—Material Incorporated by Reference
Airbus service bulletin | Revision level | Date
A300-34A0173 | 01 | December 18, 2003.
A300-34A6145 | 01 | October 17, 2003.
A310-34A2178 | 01 | October 17, 2003.

Issued in Renton, Washington, on June 22, 2005.
Ali Bahrami,
Manager, Transport Airplane Directorate, Aircraft Certification Service.

[FR Doc. 05-13143 Filed 7-5-05; 8:45 am]

BILLING CODE 4910-13-U